DEPARTMENT OF THE INTERIOR

Bureau of Land Management

[LLMTM00000 L16100000.DP0000 LXSS048E0000]

Notice of Availability of the HiLine District Draft Resource Management Plan and Draft Environmental Impact Statement, MT

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared a Draft Resource Management Plan (RMP) and Draft Environmental Impact Statement (EIS) for the HiLine District in Montana and by this notice is announcing the opening of the comment period.

DATES: To ensure that comments will be considered, the BLM must receive written comments on the draft RMP/EIS within 90 days following the date the Environmental Protection Agency publishes the notice of the draft RMP/EIS in the Federal Register. The BLM will announce future meetings or hearings and any other public participation activities at least 15 days in advance through public notices, media releases, and/or mailings.

ADDRESSES: You may submit comments related to the HiLine District draft RMP/EIS by any of the following methods:

• Email: MT_HiLine_RMP@blm.gov.

• Fax: 406-262-2856.

• Mail: District Manager, BLM, 3990 Hwy 2 West, Havre, MT 59501

Copies of the HiLine District draft RMP/EIS are available in the Havre Field Office at the above address or on the following Web site: http://www.blm.gov/8qkd.

FOR FURTHER INFORMATION CONTACT: Brian Hockett, Planning & Environmental Coordinator, telephone: 406-262-2837; address: 3990 Hwy 2 West, Havre, MT 59501; email: MT_HiLine_RMP@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The HiLine District draft RMP/EIS was developed through a collaborative planning process. The HiLine District RMP decision area encompasses approximately 2.4 million acres of public land and 3.8 million acres of Federal mineral estate administered by the BLM HiLine District, which are located in northern Montana in Glacier, Toole, Liberty, Chouteau, Hill, Blaine, Phillips, and Valley counties. These lands and minerals are managed by the Havre, Malta, Glasgow and Great Falls Field Offices. The HiLine RMP decision area does not include private lands, State lands, tribal reservations, Federal lands not administered by BLM, or lands addressed in the Upper Missouri River Breaks National Monument RMP (January 2008).

Current guidance is provided by the West HiLine (1988) and Sweet Grass Hills Amendment (1996) and Judith-Valley-Phillips Resource Management Plans (1994) and land use plan amendments (1996). Oil and gas leasing in Phillips and Valley counties is currently managed under four Management Framework Plans (MFP): Phillips MFP, Valley MFP, Little Rocky Mountains MFP, and the UL Bend/Zortman MFP.

The key issues raised during the planning process include renewable and traditional energy development, management of solid minerals, soil and vegetation management, land tenure, public land access, off-highway vehicles, lands with wilderness characteristics, wildlife habitat and special status species, cultural and paleontological resources, special designations and management areas, wildfire and prescribed fire management, and social and economic conditions across the HiLine District. Five alternatives, including a no-action alternative, were developed in response to these key issues. The no action alternative, Alternative A, represents the current management of public lands within the HiLine District. The four action alternatives, Alternatives B through E, present a reasonable set of objectives and actions to guide future management of the planning area. Comments collected during the scoping process in 2006, during which 18 public open houses were held, were instrumental in determining the issues to be addressed. Through the draft RMP/EIS, the BLM is seeking public input on the alternatives developed to address these issues. The HiLine District's identified preferred alternative is Alternative E, which focuses on a balance between managing public lands for economic and recreational growth while protecting valuable resources.

Among the special designations under consideration within the range of alternatives, Areas of Critical Environmental Concern (ACEC) are proposed to protect certain resource values. There are seven existing ACECs: Azure Cave, Big Bend of the Milk River, Bitter Creek, Kevin Rim, Mountain Plover, Prairie Dog Towns within the 7km Complex, and Sweet Grass Hills; these ACEC designations would be carried forward in some alternatives, sometimes with changes in acreage depending on the alternative.

Pertinent information regarding all proposed ACECs in the preferred alternative, including values, resource use limitations, if formally designated, and acreages, is summarized below. Further information is available at the following Web site: http://www.blm.gov/8qkd.

Azure Cave ACEC (141 Acres)

• Relevant and Important Values: Wildlife habitat, natural hazards.

• Limitations on the Following Uses: Solid mineral leasing, mineral material sales, commercial wind energy development.

• Other Restrictions: Avoidance area for rights-of-way.

Big Bend of the Milk River ACEC (1,972 Acres)

• Relevant and Important Values: Cultural, historic.

• Limitations on the Following Uses: Oil and gas leasing, mineral material sales, commercial wind energy development.

• Other Restrictions: Avoidance area for rights-of-way.

Bitter Creek ACEC (60,701 Acres)

• Relevant and Important Values: Historic, cultural, scenic, wildlife habitat, natural processes.

• Limitations on the Following Uses: Oil and gas leasing, commercial wind energy development.

• Other Restrictions: Avoidance area for rights-of-way, managed as Visual Resource Management (VRM) Classes I and II.

Kevin Rim ACEC (4,557 Acres)

• Relevant and Important Values: Cultural, wildlife habitat.

• Limitations on the Following Uses: Oil and gas leasing, solid mineral leasing, mineral material sales, commercial wind energy development.

• Other Restrictions: Avoidance area for rights-of-way.

Mountain Plover ACEC (24,762 Acres)

• Relevant and Important Values: Wildlife habitat.

• Limitations on the Following Uses: Oil and gas leasing, solid mineral leasing, mineral material sales, commercial wind energy development.

• Other Restrictions: Avoidance area for rights-of-way.

Sweet Grass Hills ACEC (7,419 Acres)

• Relevant and Important Values: Historic, cultural.

• Limitations on the Following Uses: Oil and gas leasing, solid mineral leasing, mineral material sales, commercial wind energy development.

• Other Restrictions: Avoidance area for rights-of-way, managed as VRM Class II.

Frenchman ACEC (42,020 Acres, or 63,482 Acres in Alternative D)

• Relevant and Important Values: Scenic, wildlife habitat, natural processes.

• Limitations on the Following Uses: Oil and gas leasing, solid mineral leasing, mineral material sales, commercial wind energy development.

• Other Restrictions: Avoidance area for rights-of-way, managed as VRM Class II.

Malta Geological ACEC (6,153 Acres)

• Relevant and Important Values: Geologic, paleontological, natural processes.

• Limitations on the Following Uses: Oil and gas leasing, solid mineral leasing, mineral material sales, commercial wind energy development.

• Other Restrictions: Avoidance area for rights-of-way; personal collection of common fossils would not be allowed.

Woody Island ACEC (32,869 Acres, or 22,411 Acres in Alternatives C & D)

• Relevant and Important Values: Scenic, wildlife habitat.

• Limitations on the Following Uses: Oil and gas leasing, solid mineral leasing, mineral material sales, commercial wind energy development.

• Other Restrictions: Avoidance area for rights-of-way, managed as VRM Class II.

Zortman/Landusky Mine Reclamation ACEC (2,682 Acres, or 3,609 Acres in Alternatives B & C)

• Relevant and Important Values: Natural hazards, public safety.

• Limitations on the Following Uses: Commercial wind energy development.

• Other Restrictions: Avoidance area for rights-of-way, closed to all unauthorized vehicle use during reclamation activities.

Some of the ACECs in the preferred alternative may also appear in other alternatives with different acreages and management prescriptions. Also, some ACECs that appear in other alternatives may not be included in the preferred alternative. For example, the Little Rocky Mountains ACEC is analyzed in Alternative D for relevant and important historic and cultural values; and the Greater Sage-Grouse Protection Priority Area and Grassland Bird/Greater Sage-Grouse Priority Areas are proposed ACECs in Alternative B to protect relevant and important Greater Sage-Grouse and grassland bird habitat.

The preferred alternative identifies 930,265 acres as a Greater Sage-Grouse Protection Priority Area and 298,772 acres as Grassland Bird/Greater Sage-Grouse Priority Areas with special management prescriptions on these BLM-administered lands to provide high-quality habitat for Greater Sage-Grouse and other sagebrush-dependent species. These priority habitat areas would be closed to solid mineral leasing, and oil and gas leasing would be subject to a no surface occupancy and use stipulation. Both areas would be designated as exclusion areas for wind energy rights-of-way, and avoidance areas for all other rights-of-way.

Two areas are being considered for designation as off-highway vehicle (OHV) use areas. In the preferred alternative, 40 acres in the Glasgow OHV area would remain open until an alternate site is located, and in the Fresno OHV area 125 acres would be designated as open to OHV use.

Following the close of the public review and comment period on this draft RMP/EIS, public comments will be used to prepare the BLM HiLine District Proposed RMP and Final EIS. The BLM will respond to each substantive comment received during the draft RMP/DEIS review period by making appropriate revisions to the document, or by explaining why a comment did not warrant a change. After comments have been considered and the draft RMP/EIS has incorporated all potential revisions to develop the Proposed RMP and Final EIS, a notice of the availability for the Proposed RMP and Final EIS will be posted in the Federal Register.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Jamie E. Connell,
State Director.

[FR Doc. 2013-06503 Filed 3-21-13; 8:45 am]

BILLING CODE 4310-DN-P